DEPARTMENT OF HOMELAND SECURITY

Coast Guard

33 CFR Parts 100 and 165

[Docket Number USCG-2024-0879]

RIN 1625-AA08 and 1625-AA00

Special Local Regulations & Safety Zones; USCG Sector Eastern Great Lakes

AGENCY: Coast Guard, DHS.

ACTION: Final rule.

SUMMARY: The Coast Guard is amending existing regulations relating to special local regulations and safety zones that occur annually in Captain of the Port Zone Eastern Great Lakes. This action is necessary to provide for the safety of life on these navigable waters.

DATES: This rule is effective May 23, 2025.

ADDRESSES: To view documents mentioned in this preamble as being available in the docket, go to https://www.regulations.gov, type USCG-2024-0879 in the search box and click “Search.” Next, in the Document Type column, select “Supporting & Related Material.”

FOR FURTHER INFORMATION CONTACT: If you have questions about the rule, call or email Lieutenant William Kelley, Waterways Management at Sector Eastern Great Lakes, U.S. Coast Guard; telephone 716-931-4680, email D09-SMB-SECBuffalo-WWM@uscg.mil.

SUPPLEMENTARY INFORMATION:

I. Table of Abbreviations

CFR Code of Federal Regulations

DHS Department of Homeland Security

FR Federal Register

NPRM Notice of proposed rulemaking

§ Section

U.S.C. United States Code

II. Background Information and Regulatory History

The Coast Guard lists annual marine events in the Code of Federal Regulations (CFR). For Coast Guard Sector Eastern Great Lakes, special local regulations are listed in 33 CFR 100.901 and safety zones are listed in 33 CFR 165.939. Over the 2023 calendar year, the Coast Guard was notified of multiple marine events that are conducted on an annual basis. The Coast Guard previously established temporary regulations implementing safety zones or special local regulations for each of the respective events. The Captain of the Port (COTP) Sector Eastern Great Lakes determined that potential hazards associated with these events would be a safety concern for anyone within boundaries defined in the proposed special local regulations and safety zones during the period of these respective events. Moreover, the COTP Sector Eastern Great Lakes also sought to rename several of the enumerated events in § 165.939 to accurately reflect the current event names. Additionally, the COTP Sector Eastern Great Lakes also determined that some of the events currently listed in the existing regulations are no longer required.

The purpose of the rule is to ensure the safety of vessels and the navigable waters before, during, and after each respective scheduled event. The Coast Guard published a NPRM titled “Special Local Regulations & Safety Zones; USCG Sector Eastern Great Lakes.¹ In the NPRM, we stated why we issued the NPRM and invited comments on our proposed regulatory action related to this rule. During the comment period that ended February 20, 2025, we received 1 comment.

¹ 90 FR 6903.

III. Legal Authority and Need for Rule

The Coast Guard is issuing this rule under the authority in 46 U.S.C. 70034 and 70041. The COTP Sector Eastern Great Lakes has determined that restructure and amendment to the tables in §§ 165.939 and 100.901 are necessary for the expeditious and efficient implementation of annual safety zones and special local regulations for local marine events. The purpose of this rule is to ensure safety of vessels and the navigable waters in the safety zone and special local regulations before, during, and after the scheduled event.

IV. Discussion of Comments

As noted above, we received 1 comment on our NPRM that published on January 21, 2025. The commenter expressed support for the proposed changes. There are no changes in the regulatory text of this rule derived from comments or responses to the NPRM. There are adjustments to some entries on the tables in the regulatory text, adjusting for a more accurate depiction of each respective event as they are currently conducted.

V. Discussion of the Rule

With this final rule, the Coast Guard is making the following changes from the NPRM.

We split the proposed table 1 to § 100.901 and added table 2 to § 100.901. We made this non-substantive change to separate the areas of responsibility for the Eastern Great Lakes and Northern Great Lakes, thereby, increasing efficiency and ease of reference for the United States Coast Guard and the general public.

We made the following changes to Table 1 to § 165.939:

1. In paragraph (g), event No. (5), the title for the event is changed from proposed, “Mentor Harbor Yacht Club Fireworks” to “Mentor Harbor Yacht Club.” In addition, the size of the existing safety zone has been reduced from 700 feet to 500 feet. After publication of the NPRM, the Coast Guard determined that a smaller safety zone was appropriate to provide for public safety and facility commerce and navigation.

2. In paragraph (h), event No. (2) for “D-Day Conneaut,” the size of the existing safety zone has been reduced within its current footprint. After publication of the NPRM, the Coast Guard determined that a smaller safety zone was sufficient to provide for the safety of the event participants and the general public.

3. In paragraphs (i), events No. (1) “Madison Light Up the Park” and No. (3) “Head of the Cuyahoga,” in the dates column, the words, “on or around” have been added to allow for increased flexibility for external factors, such as weather delays and calendar conflicts with other local events.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, the rule has not been reviewed by the Office of Management and Budget (OMB).

This regulatory action determination is based on the size, location, duration, and time-of-day of each respective event. Each event establishes temporary safety zones or special local regulations lasting a short period of time over a small geographic area.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the affected areas may be small entities, for the reasons stated in section IV.A above, this rule would not have a significant economic impact on any vessel owner or operator.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This rule involves two separate table revisions that contain special regulated areas and safety zones lasting various times which prohibit entry within defined areas. All additions, removals, and existing items in the aforementioned tables have been previously categorically excluded. Normally such actions are categorically excluded from further review under paragraph L60(a) and L61 of Appendix A, Table 1 of DHS Instruction Manual 023-01-001-01, Rev. 1. A Record of Environmental Consideration supporting this determination is available in the docket. For instructions on locating the docket, see the ADDRESSES section of this preamble. We seek any comments or information that may lead to the discovery of a significant environmental impact from this rule.

List of Subjects

33 CFR Part 100

Harbors, Marine safety, Navigation (water), Reporting and recordkeeping requirements, Security measures, Waterways.

33 CFR Part 165

Harbors, Marine safety, Navigation (water), Reporting and recordkeeping requirements, Security measures, Waterways.

For the reasons discussed in the preamble, the Coast Guard is amending 33 CFR parts 100 and 165 as follows:

PART 100 SAFETY OF LIFE ON NAVIGABLE WATERS

1. The authority citation for part 100 continues to read as follows:

Authority: 46 U.S.C. 70041; 33 CFR 1.05-1.

Subpart F—Ninth Coast Guard District

2. Amend § 100.901 by revising table 1 to § 100.901 and adding table 2 to § 100.901 to read as follows:

§ 100.901 Great Lakes annual marine events.

* * * * *

Table 1 to § 100.901
Event | Location ¹ | Date ²
Sector Eastern Great Lakes, NY
(1) Flagship International Kilo Speed Challenge Sponsor: Presque Isle Powerboat Racing Association. | That portion of Lake Erie, Presque Isle Bay, south of a line drawn from 42°08′54″ N 080°05′42″ W; to 42°07′ N 080°21′ W will be a regulated area. That portion of Lake Erie, Presque Isle Bay, north of a line drawn from 42°08′54″ N 080°05′42″ W; to 42°07′ N 080°21′ W will be a “caution area”. All vessels transiting the caution area will be operated at bare steerageway, keeping the vessel's wake at a minimum, and will exercise a high degree of caution in the area. The bay entrance will not be affected | On or around the 3rd or 4th weekend of June.
(2) Christmas in July Sponsor: Henderson Business and Community Council. | The special local regulation area will cover ALL WATERS WITHIN A MOVING ZONE THAT ENCOMPASSES A 50 yard BUFFER ZONE ahead of the lead vessel, 50 yards astern of the last participating vessel, and 50 yards on each side of the parade vessels as it travels the parade route in the Henderson Bay, starting at point 43°51′44″ N 76°12′07.3″ W and running north adjacent to the shore to point 43°52′12.2″ N 76°11′32.7″ W, continuing northwest to point 43°53′40.9″ N 76°12′40.6″ W and running south adjacent to the shore to point 43°51′47.2″ N 76°14′08.3″ W, ending at the starting position at point 43°51′44.0″ N 76°12′07.3″ W Latitude Longitude 43°51′44″ N 076°12′07.3″ W, thence to 43°52′12.2″ N 076°11′32.7″ W, thence to 43°53′40.9″ N 076°14′08.3″ W, thence along the shoreline to end at the starting position. | On or around the final weekend of July.
(3) Henderson Harbor Sprint Triathlon Sponsor: Henderson Business and Community Council. | The special local regulation would cover navigable waters within Henderson Bay starting at point 43°51′02.5″ N 076°12′21.9″ W and running northeast adjacent to the shore to point 43°51′05.9″ N 076°12′12.2″ W, continuing west to point 43°51′06.2″ N 076°12′21.2″ W, ending at starting position at point 43°51′02.5″ N 076°12′21.9″ W | On or around the 2nd weekend of July.
(4) Women Swimmin' for Hospicare Sponsor: Hospicare Palliative Care Services. | The special local regulation would cover the navigable waters within Cayuga Lake described below Regulated area: Latitude Longitude 42°30′07.01″ N 076°30′57.04″ W Along shoreline to position: 42°30′30.03″ N 076°31′09.34″ W thence to 42°29′50.20″ N 076°32′24.99″ W Along shoreline to position 42°29′34.71″ N 076°32′17.11″ W thence To starting position. | On or around the 2nd Saturday of August.
¹ All coordinates listed in this table 1 reference North American Datum of 1983 (NAD 1983).
² As noted in the introductory text of this section, the enforcement dates and times for each of the listed events in this table are subject to change. In the event of a change, or for enforcement periods listed that do not allow a specific date or dates to be determined, the Captain of the Port will provide notice to the public by publishing a Notice of Enforcement in the Federal Register, as well as, issuing a Broadcast Notice to Mariner.

Table 2 to § 100.901
Event | Location ¹ | Date ²
Sector Northern Great Lakes, MI
(1) Bridgefest Regatta Sponsor: Bridgefest Committee. | Keweenaw Waterway, from the Houghton Hancock Lift Bridge to 1000 yards west of the bridge, near Houghton, MI | 2nd weekend of June.
(2) Duluth Fourth Fest Fireworks Sponsor: Office of the Mayor, Duluth, MN. | That portion of the Duluth Harbor Basin Northern Section bounded on the south by a line drawn on a bearing of 087° true from the Cargill Pier through Duluth Basin Lighted Buoy #5 (LLNR 15905) to the opposite shore on the north by the Duluth Aerial Bridge. That portion of Duluth Harbor Basin Northern Section within 600 yards of position 46°46′47″ N 092°06′10″ W | 4th of July weekend.
(3) July 4th Fireworks Sponsor: City of Sault Ste. Marie, MI. | That portion of the St. Mary's River, Sault Ste. Marie, MI within a 1000-foot radius of Brady Park, located on the south shore of the river. These waters are enclosed by the Locks to the west and to the east from a line drawn from the pier light of the east center pier to the U.S. Coast Guard Base to the southeast | 4th of July weekend.
¹ All coordinates listed in Table 2 to part 100.901 reference North American Datum of 1983 (NAD 1983).
² As noted in the introductory text of this section, the enforcement dates and times for each of the listed events in this table are subject to change. In the event of a change, or for enforcement periods listed that do not allow a specific date or dates to be determined, the Captain of the Port will provide notice to the public by publishing a Notice of Enforcement in the Federal Register, as well as, issuing a Broadcast Notice to Mariner.

PART 165—Regulated Navigation Areas and Limited Access Areas

3. The authority citation for part 165 is revised to read as follows:

Authority: 46 U.S.C. 70034, 70051, 70124; 33 CFR 1.05-1, 6.04-1, 6.04-6, and 160.5; Department of Homeland Security Delegation No. 00170.1, Revision No. 01.4.

Subpart F—Specific Regulated Navigation Areas and Limited Access Areas

4. Amend § 165.939:

a. In paragraph (a)(5) in the first sentence by removing the text, “Table 165.939” and adding in its place, the text “table 1 to § 165.939;”and

b. Revising table 165.939.

The revision reads as follows::

§ 165.939 Safety Zones; Annual Events in the Captain of the Port Eastern Great Lakes Zone.

* * * * *

Table 1 to § 165.939
Event | Location ¹ ² | Date ³
(a) January Safety Zones
[Reserved].
(b) February Safety Zones
[Reserved].
(c) March Safety Zones
[Reserved].
(d) April Safety Zones
(1) United Refining Company of Pennsylvania Fireworks | Erie, PA. All waters of the Presque Isle Bay, from surface to bottom, encompassed by a 583-foot radius around the Dobbins Landing Launch site at 42°08′19.87″ N, 80°05′29.54″ W in Erie, PA | On or around the last week in April.
(e) May Safety Zones
[Reserved].
(f) June Safety Zones
(1) Festival of the Fish | Vermilion, OH. All U.S. waters of Lake Erie within a 420-foot radius of the fireworks launch site located at position 41°25′45″ N and 082°21′54″ W, (NAD 83) | On or around the 3rd Saturday in June.
(2) City of Syracuse Fireworks Celebration | Syracuse, NY. All U.S. waters of Onondaga Lake within a 350-foot radius of land position 43°03′37.0″ N, 076°09′59.0″ W in Syracuse, NY | On or around the last weekend of June.
(3) Rochester Harbor and Carousel Festival | Rochester, NY. All U.S. waters of Lake Ontario within a 1,120-foot radius of land position 43°15′40.2″ N, 077°36′05.1″ W in Rochester, NY | On or around the 4th Monday of June.
(4) Seneca River Days | Baldwinsville, NY. All U.S. waters of the Seneca River within an 840-foot radius of land position 43°09′25.0″ N, 076°20′21.0″ W in Baldwinsville, NY | On or around the 2nd weekend of June.
(5) Flagship Niagara Mariner's Ball Fireworks | Erie, PA. All waters of Presque Isle Bay, Erie, PA within a 350-foot radius from the Dobbins Landing launch site located at position 42°08′21.79″ N, 080°05′15.89″ W | On or around the 1st weekend in June.
(6) Hope Chest Buffalo Niagara Dragon Boat Festival | Buffalo, NY. All waters of the Buffalo River, Buffalo, NY starting at position 42°52′12.0″ N, 078°52′17.0″ W then Southeast to 42°52′03.0″ N, 078°52′12.0″ W then East to 42°52′03.0″ N, 078°52′10.0″ W then Northwest to 42°52′13.0″ N, 078°52′16.0″ W and then returning to the point of origin | On or around the 3rd weekend in June.
(7) Blazing Paddles | Cleveland, OH. All waters of the Cuyahoga River in Cleveland OH, beginning at position 41°29′36″ N, 081°42′13″ W to the turnaround point at position 41°27′53″ N,081°40′38″ W | On or around the 3rd weekend of June.
(8) Boaters Against Cancer Fireworks | Kendall, NY. All waters of Lake Ontario contained within a 210-foot radius of the fireworks launch site located at 43°22′02.04″ N, 078°01′48.06″ W in Kendall, NY | On or around the last weekend of June.
(9) NYSOPRHP Patriotic-Themed Fireworks Display | Varying event names. Hamlin, NY. All waters of Lake Ontario, from surface to bottom, encompassed by a 1000-foot radius around 43°21′51.9″ N, 077°56′59.6″ W | On or around the last weekend of June or first weekend in July.
(g) July Safety Zones
(1) Cleveland Triathlon | Cleveland, OH. All U.S. waters of Lake Erie at North Coast Harbor, Cleveland, OH within 100 feet of a line starting at position 41°30′34.6″ N and 081°41′51.3″ W extending in a straight line to the East Basin Break wall at position 41°30′51.8″ N and 081°42′08.5″ W | On or around the 4th or 5th Sunday in July.
(2) Riverfest Fireworks Display | Cleveland, OH. All U.S. waters of Lake Erie, Cleveland, OH within a 280-foot radius from position 41°30′34.23″ N and 081°08′55.73″ W | On or around the 2nd or 3rd weekend in July.
(3) Eastlake Willoughby Grand Prix | Fairport, OH. All U.S. waters of Lake Erie, off of Headlands Beach State Park, Fairport, OH inside an area starting on shore at position 41°44′33″ N, 081°19′14″ W extending NW in a straight line to position 41°45′00″ N, 081°19′35″ W, then NE in a straight line to position 41°45′59″ N, 081°17′30″ W, and SE back to the shore at position 41°45′43″ N, 081°17′08″ W | On or around the 3rd weekend in July.
(4) City of Cleveland July 4th Fireworks | Cleveland, OH. All U.S. waters of Lake Erie and Cleveland Harbor within a 1,000-foot radius of land position 41°30′10″ N, 081°42′36″ W (NAD 83) at Dock 20 | On or around the 4th of July.
(5) Mentor Harbor Yacht Club | Mentor, OH. All U.S. waters of Lake Erie and Mentor Harbor within a 500-foot radius of approximate land position 41°43′37.53″ N, 081°21′10.24″ W | On or around the 4th of July.
(6) Whiskey Island Boat Club Parade of Lights | Cleveland, OH. All U.S. waters within 25 feet of the vessels participating in the Cleveland Parade of Lights in the Cuyahoga River. The safety zone will move with participating vessels as they transit from the mouth of the Cuyahoga River in the vicinity of position 41°29′59″ N, 081°43′31″ W, to Merwin's Wharf in the vicinity of 41°29′23″ N, 081°42′16″ W, and returning to the mouth of the Old River at 41°29′55″ N, 081°42′18″ W | On or around the 3rd or 4th weekend in July.
(7) Lorain Independence Day | Lorain, OH. All U.S. waters within a 700-foot radius of the fireworks launch site in Lake Wilhelm located at position 41°28′35.42″ N and 082°10′51.28″ W | On or around the 4th of July.
(8) Conneaut Red, White, and Boom Over Lake Erie | Conneaut, OH. All U.S. waters within a 570-foot radius of the fireworks launch site located in Conneaut Harbor, at position 41°58′00.43″ N and 080°33′34.93″ W | On or around the 4th of July.
(9) Fairport Harbor Mardi Gras | Fairport, OH. All U.S. waters within a 275-foot radius of the fireworks launch site located in Fairport Harbor, at position 41°45′29.55″ N and 081°16′19.97″ W | On or around the 4th of July.
(10) Sheffield Lake Community Days | Sheffield Lake, OH. All U.S. waters of Lake Erie and Sheffield Lake Boat ramp within a 350-foot radius of land position 41°29′27.65″ N, 082°6′47.71″ W | On or around the 2nd weekend in July.
(11) Bay Village Independence Day Celebration | Bay Village, OH. All U.S. waters within a 560-foot radius of the fireworks launch site located in Lake Erie, at position 41°29′23.9″ N and 081°55′44.5″ W | On or around the 4th of July.
(12) Brogan Open Water Classic | Cleveland, OH. All U.S. waters of Lake Erie, south of a line drawn between positions 41°29′30″ N, 081°44′21″ W and 41°29′21″ N, 081°45′04″ W to the shore | On or around the 2nd or 3rd weekend in July.
(13) Boldt Castle 4th of July Fireworks | Heart Island, NY. All U.S. waters of the Saint Lawrence River within a 1,120-foot radius of land position 44°20′38.5″ N, 075°55′19.1″ W at Heart Island, NY | On or around the 4th of July.
(14) Clayton Chamber of Commerce Fireworks | Calumet Island, NY. All U.S. waters of the Saint Lawrence River within an 840-foot radius of land position 44°15′04.0″ N, 076°05′40″ W at Calumet Island, NY | On or around the 4th of July.
(15) French Festival Fireworks | Cape Vincent, NY. All U.S. waters of the Saint Lawrence River within an 840-foot radius of land position 44°07′54.6.0″ N, 076°20′01.3″ W in Cape Vincent, NY | On or around the 2nd weekend of July.
(16) Lyme Community Days | Chaumont, NY. All U.S. waters of Chaumont Bay within a 560-foot radius of land position 44°04′06.3″ N, 076°08′56.8″ W in Chaumont, NY | On or around the 4th weekend of July.
(17) Village Fireworks | Sackets Harbor, NY. All U.S. waters of Black River Bay within an 840-foot radius of land position 43°56′51.9″ N, 076°07′46.9″ W in Sackets Harbor, NY | On or around the 4th of July.
(18) Can-Am Festival | Sackets Harbor, NY. All U.S. waters of Black River Bay within a 1,120-foot radius of land position 43°57′15.9″ N, 076°06′39.2″ W in Sackets Harbor, NY | On or around the 3rd weekend of July.
(19) Fort Brewerton Greater Oneida Lake Chamber of Commerce Fireworks | Brewerton, NY. All U.S. waters of Lake Oneida within an 840-foot radius of the barge at position 43°14′16.4″ N, 076°08′03.6″ W in Brewerton, NY | On or around the 4th of July.
(20) Celebrate Baldwinsville Fireworks | Baldwinsville, NY. All U.S. waters of the Seneca River within a 700-foot radius of land position 43°09′24.9″ N, 076°20′18.9″ W in Baldwinsville, NY | On or around the 1st weekend of July.
(21) Island Festival Fireworks | Baldwinsville, NY. All U.S. waters of the Seneca River within a 1,120-foot radius of land position 43°09′22.0″ N, 076°20′15.0″ W in Baldwinsville, NY | On or around the 1st weekend of July.
(22) Village of Sodus Point Fourth of July Fireworks | Sodus Point, NY. All U.S. waters of Sodus Bay within a 1,120-foot radius of land position 43°16′33″ N, 076°58′27″ W in Sodus Point, NY | On or around the 4th of July.
(23) Olcott Fireworks | Olcott, NY. All U.S. waters of Lake Ontario within a 1,120-foot radius of land position 43°20′23.6″ N, 078°43′09.5″ W in Olcott, NY | On or around the 4th of July.
(24) North Tonawanda Fireworks | North Tonawanda, NY. All U.S. waters of the East Niagara River within a 1,400-foot radius of land position 43°00′56.3″ N, 078°53′38.6″ W in North Tonawanda, NY | On or around the 4th of July.
(25) Tonawanda's Canal Fest Fireworks | Tonawanda, NY. All U.S. waters of the East Niagara River within a 210-foot radius of land position 43°01′17.8″ N, 078°52′40.9″ W in Tonawanda, NY | On or around the 4th Sunday of July.
(26) Tom Graves Memorial Fireworks | Port Bay, NY. All waters of Port Bay, NY, within an 840-foot radius of the barge located in position 43°17′52.4″ N, 076°49′55.7″ W in Port Bay, NY | On or around the 4th of July.
(27) Oswego Harborfest | Oswego, NY. All waters of Oswego Harbor, Oswego, NY contained within a 700-foot radius of position 43°28′06.9″ N, 076°31′08.1″ W along with a 350-foot radius of the breakwall between positions 43°27′53.0″ N, 076°31′25.3″ W then Northeast to 43°27′58.6″ N, 076°31′12.1″ W | On or around the last week of July.
(28) City of Oswego, NY 4th of July Display | Oswego, NY. All waters of Lake Ontario, Oswego, NY within a 490-foot radius from the launch site located at position 43°27′55.8″ N, 076°30′59.0″ W | On or around the 4th of July.
(29) Wine and Walleye Festival Fireworks | Ashtabula, OH. All waters of Lake Erie within a 280-foot radius of the fireworks launch site located at position 41°54′06″ N, 080°47′49″ W, Ashtabula, OH | On or around the last weekend of July.
(30) City of Erie 4th of July Fireworks | Erie, PA. All waters of Lake Erie contained within a 280-foot radius of the Dobbins Landing launch site located at 42°08′17.13″ N, 080°05′30.17″ W in Erie, PA | On or around the 4th of July.
(31) Buffalo Italian Fest | Buffalo, NY. All waters of Lake Erie contained within a 420-foot radius of 42°52′04.23″ N, 078°53′00.67″ W in Buffalo, NY | On or around 2nd or 3rd weekend of July.
(32) Hamburg Beach Blast | Hamburg, NY. All waters of Lake Erie contained within a 280-foot radius of 42°45′59.21″ N, 078°52′41.51″ W in Hamburg, NY | On or around the last weekend of July.
(33) Christmas in July Fireworks | Henderson Harbor, NY. All waters within a 420-foot radius of the barge at position 43°86′66″ N, 076°20′97″ W in Henderson Harbor, NY | On or around the last weekend of July.
(34) SamSen Operation/Seneca Lake Resorts 4th of July | Romulus, NY. All waters of the Seneca Lake, contained in a 420-foot radius of 42°43′39.28″ N, 076°54′59.47″ W in Romulus, NY | On or around the 4th of July.
(35) Town of Newfane Annual Fireworks Show | Olcott, NY. All waters of Lake Ontario within a 1,120-foot radius of land position 43°20′23.6″ N, 078°43′09.5″ W in Olcott, NY | On or around the 4th of July.
(h) August Safety Zones
(1) Whiskey Island Paddlefest | Cleveland, OH. All U.S. waters of Lake Erie; Cleveland Harbor, from 41°29′59.5″ N and 081°42′59.3″ W to 41°30′4.4″ N and 081°42′44.5″ W to 41°30′17.3″ N and 081°43′0.6″ W to 41°30′9.4″ N and 081°43′2.0″ W to 41°29′54.9″ N and 081°43′34.4″ W to 41°30′0.1″ N and 081°43′3.1″ W and back to 41°29′59.5″ N and 081°42′59.3″ W (NAD 83) | On or around the 3rd or 4th weekend in August.
(2) D-Day Conneaut | Conneaut, OH. All U.S. waters of Conneaut Township Park, Lake Erie, within an area starting at 41°57′43.4″ N 80°34′07.2″ W to 41°58′03.2″ N 80°34′20.0″ W to 41°58′08.7″ N 80°33′32.0″ W to 41°58′04″ N 80°33′31″ W to 41°58′00″ N to 80°33′36″ W and returning to the point of origin. | On or around the 3rd weekend in August.
(3) Celebrate Erie Fireworks | Erie, PA. All U.S. waters of Presque Isle Bay within an 800-foot radius of the Dobbins Landing launch site, at 42°08′19.0″ N, 080°05′29.0″ W in Erie, PA | On or around the 3rd weekend of August.
(4) Thunder on the Niagara Hydroplane Boat Races | North Tonawanda, NY. All U.S. waters of the Niagara River near the North Grand Island Bridge, encompassed by a line starting at 43°03′32.9″ N, 078°54′46.9″ W to 43°03′14.6″ N, 078°55′16.0″ W then to 43°02′39.7″ N, 078°54′13.1″ W then to 43°02′59.9″ N, 078°53′42.0″ W and returning to the point of origin | On or around the last weekend in July to the 2nd weekend of August.
(5) Ski Show Sylvan Beach | Sylvan Beach, NY. All waters where Fish Creek meets Oneida Lake starting at position 43°11′36.6″ N, 75°43′53.8″ W then South to 43°11′33.7″ N, 75°43′51.2″ W then East to 43°11′42.4″ N, 75°43′38.6″ W then North to 43°11′44.5″ N, 75°43′39.7″ W then returning to the point of origin | On or around the 2nd or 3rd weekend of August.
(6) Great Lakes Offshore Grand Prix | Dunkirk, NY. All waters of Lake Erie starting at position 42°29′37.7″ N, 079°21′17.7″ W then Northwest to 42°29′45.2″ N, 079°21′28.2″ W then Northeast to 42°30′15.0″ N, 079°21′20.0″ W then Northeast to 42°30′39.0″ N, 079°19′46.0″ W then Southeast to 42°30′09.3″ N, 079°19′03.1″ W | On or around the 2nd or 3rd weekend of August.
(7) County Commissioners Association of Pennsylvania Fireworks | Erie, PA. All waters of Presque Isle Bay, from surface to bottom, encompassed by 350-foot radius around the Dobbins Landing Launch site, at 42°8′19.6008″ N 80°5′29.2806″ W | On or around the 1st or 2nd week of August.
(8) Tri CLE Rock Roll Run | Cleveland, OH. All U.S. waters of Lake Erie offshore Edgewater Beach and immediately adjacent waters within to following approximate safety zone rectangle: (1) 41°29′15.76″ N, 081°44′46.34″ W; (2) 41°29′27.96″ N, 081°44′49.87″ W; (3) 41°29′31.98″ N, 081°44′24.01″ W, (4) 41°29′27.46″ N, 081°44′22.51″ W | On or around the 2nd weekend of August.
(i) September Safety Zones
(1) Madison Light Up the Park | Madison Township, OH. All U.S. waters of Lake Erie, within a 210 ft radius of position 41°50′17″ N and 081°02′51″ W (NAD 83) | On or around the 1st weekend in September.
(2) Cleveland National Airshow | Cleveland, OH. All U.S. waters of Lake Erie and Cleveland Harbor (near Burke Lakefront Airport) from position 41°30′20″ N and 081°42′20″ W to 41°30′50″ N and 081°42′49″ W, to 41°32′09″ N and 081°39′49″ W, to 41°31′53″ N and 081°39′24″ W, then return to the original position (NAD 83) The | Wednesday before Labor Day through Labor Day.
(3) Head of the Cuyahoga | Cleveland, OH. All U.S. waters of the Cuyahoga River, between a line drawn perpendicular to the river banks from position 41°29′55″ N, 081°42′23″ W (NAD 83) just past the Detroit-Superior Viaduct bridge at MM 1.42 of the Cuyahoga River south to a line drawn perpendicular to the river banks at position 41°28′32″ N, 081°40′16″ W (NAD 83) just south of the Interstate 490 bridge at MM 4.79 of the Cuyahoga River | On or around the 3rd or 4th weekend in September.
(4) Village of Sodus Point Labor Day Fireworks | Sodus Point, NY. All waters of Lake Ontario, from surface to bottom, encompassed by a 560-foot radius around 43°16′33″ N 076°58′27″ W in Sodus Point, NY | On or around the 1st weekend of September.
(j) October Safety Zones
(1) Light the Night at Canalside | Buffalo, NY. All waters of Lake Erie, from surface to bottom, encompassed by 350-foot radius around 42°52′07.96″ N 78°53′00.87″ W | On or around the 1st weekend of October.
(k) November Safety Zones
(1) City of Oswego Tree Lighting Display | Oswego, NY. All waters of the Oswego River, from surface to bottom, encompassed by a 210-foot radius around 43°27′15.18″ N, 76°30′27.89″ W | On or around the 4th weekend in November.
(l) December Safety Zones
(1) City of North Tonawanda NYE Fireworks | North Tonawanda, NY. All waters of the Erie Canal, from surface to bottom, encompassed by a 105-foot radius around 43°01′17.96″ N 78°52′41.04″ W | On or around the last night in December.
¹ All geographic coordinates in Table 1 to § 165.939 are North American Datum of 1983 (NAD 83).
² Location and zone size subject to change. Exact location and size will be posted in Notice of Enforcement and Local Notice to Mariners.
³ Date subject to change. Exact date will be posted in Notice of Enforcement and Local Notice to Mariners.

Dated: March 21, 2025.
M.I. Kuperman,
Captain, U.S. Coast Guard, Captain of the Port Sector Eastern Great Lakes.

[FR Doc. 2025-06946 Filed 4-22-25; 8:45 am]

BILLING CODE 9110-04-P